ENVIRONMENTAL PROTECTION AGENCY

40 CFR Part 131

[FRL-7406-2]

Withdrawal of Federal Human Health and Aquatic Life Water Quality Criteria for Toxic Pollutants Applicable to Michigan

AGENCY: Environmental Protection Agency (EPA).

ACTION: Proposed rule.

SUMMARY: EPA is proposing to amend the Federal regulations to withdraw water quality criteria applicable to Michigan.

In the “Rules and Regulations” section of this Federal Register, EPA is promulgating a direct final rule withdrawing the Federal water quality criteria applicable to Michigan because EPA views this as a noncontroversial action and anticipates no adverse comment. EPA has explained our reasons for this action in the preamble to the direct final rule. If EPA receives no adverse comments, the Agency will not take further action on this proposed rule. If EPA receives adverse comment, the Agency will withdraw the direct final rule and it will not take effect. EPA will address all public comments in a subsequent final rule based on this proposed rule. EPA will not institute a second comment period on this action. Any parties interested in commenting must do so at this time.

DATES: EPA will accept public comments on its proposed withdrawal of these criteria until December 9, 2002. Comments postmarked after this date may not be considered.

ADDRESSES: Please send an original and three copies of comments and enclosures (including references) to W-01-15, WQCR Comment Clerk; Water Docket, U.S. EPA, 1200 Pennsylvania Ave NW, MC-4101T, Washington, DC 20460. Alternatively, comments may be submitted electronically in ASCII or Word Perfect 5.1, 5.2, 6.1, or 8.0 formats avoiding the use of special characters and any form of encryption to OW-Docket@epa.gov. Identify electronic comments by the docket number W-01-15. Submit hand delivered comments to W-01-15, EPA's Water Docket, U.S. EPA, EPA West, 1301 Constitution Ave NW, Room B135, Washington DC 20460. No facsimiles (faxes) will be accepted. Comments will be available at the Water Docket, 202-566-2426, Monday through Friday, excluding legal holidays, during normal business hours of 8:30 am to 4:30 p.m.

The supporting record for this rulemaking may be inspected at EPA Region 5, Office of Water, 77 West Jackson Boulevard, 16th Floor, Chicago, IL 60604-3507, Monday through Friday, excluding legal holidays, during normal business hours of 9 a.m. to 5 p.m. Please contact Dave Pfeifer, as listed in the FOR FURTHER INFORMATION CONTACT section, before arriving.

A copy of Michigan's water quality standards may be obtained electronically from EPA's Water Quality Standards Repository, at http://www.epa.gov/waterscience/standards/wqslibrary/mi/mi.html.

FOR FURTHER INFORMATION CONTACT: Manjali Gupta Vlcan at EPA Headquarters, Office of Water (4305T), 1200 Pennsylvania Ave NW., Washington, DC, 20460 (tel: 202-566-0373, fax 202-566-0409) or email at vlcan.manjali@epa.gov, or Dave Pfeifer in EPA's Region 5 at 312-353-9024 or e-mail at pfeifer.david@epa.gov.

SUPPLEMENTARY INFORMATION: This action concerns EPA's withdrawing of the Federal water quality criteria applicable to Michigan from 40 CFR 31.36 (the NTR). For further information, including the various statutes and executive orders that require findings for rulemakings, please see the information provided in the direct final rule titled “Withdrawal of Federal Human Health and Aquatic Life Water Quality Criteria for Toxic Pollutants Applicable to Michigan” located in the “Rules and Regulations” section of this Federal Register Publication.

List of Subjects in 40 CFR Part 131

Environmental protection, Indians—land, Intergovernmental relations, Reporting and recordkeeping requirements, Water pollution control.

Dated: November 1, 2002.
Christine Todd Whitman,
Administrator.

[FR Doc. 02-28498 Filed 11-7-02; 8:45 am]

BILLING CODE 6560-50-U